ENVIRONMENTAL PROTECTION AGENCY

[ER-FRL-8593-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 17, 2009 (74 FR 17860).

Draft EISs

EIS No. 20090052, ERP No. D-NRS-H38001-IA, Clarke County Water Supply Project, To Construct a Multiple-Purpose Structure that Provides for Rural Water Supply and Water Based Recreational Opportunities, Clarke County, IA.

Summary: EPA expressed environmental concerns about stream and wetland impacts and mitigation. Rating EC2.

EIS No. 20090064, ERP No. D-FTA-K54031-CA, Silicon Valley Rapid Transit Corridor Project, Proposes to Construct an Extension of the Bay Area Rapid Transit (BART) Rail System from Warm Spring Station in Fremont to Santa Clara County, CA.

Summary: EPA expressed environmental concerns about impacts to water quality, noise impacts, and environmental justice. EPA also recommended that the project sponsors ensure coordination with other transit service in the area. Rating EC2.

EIS No. 20090076, ERP No. D-SFW-K91016-CA, Paiute Cutthroat Trout Restoration Project, Eradication of Non-Native Trout Species from 11 Stream Miles of Silver King Creek, Alpine County, CA.

Summary: EPA expressed concerns about the environmental impacts of piperonyl butoxide, and recommended further consideration of physical treatment combined with chemical treatment options. Rating EC2.

EIS No. 20090082, ERP No. D-AFS-K65359-CA, Salt Timber Harvest and Fuel Hazard Reduction Project, Proposing Vegetation Management in the Salt Creek Watershed, South Fork Management Unit, Hayfork Ranger District, Shasta-Trinity National Forest, Trinity County, CA.

Summary: EPA expressed environmental concerns about the treatment prescriptions, naturally occurring asbestos, air quality, and climate change. Rating EC2.

Final EISs

EIS No. 20090041, ERP No. F-TVA-E65073-IN, Watts Bar Reservoir Land Management Plan, Amend and Update the 2005 Plan, Guide Land Use Approvals, Private Water Use Facility, and Resource Management Decisions, Loudon, Meigs, Rhea and Roane Counties, TN.

Summary: EPA continues to have environmental concerns because the preferred alternative Modified B is not as environmental protective as the Modified C alternative.

EIS No. 20090073, ERP No. F-USN-D11044-00, Virginia Capes (VACAPES) Range Complex, Proposed action is to Support and Conduct Current and Emerging Training and RDT & E Operations, Chesapeake Bay, DE, MD, VA and NC.

Summary: EPA expressed environmental concerns about the deposition of expended training materials into the marine environment and its potential impact over time.

EIS No. 20090074, ERP No. F-FAA-F51051-OH, Port Columbus International Airport/(CMH) Project, Replacement of Runway 10R/28L, Development of a New Passenger Terminal and other Associated Airport Projects, Funding, City of Columbus, OH.

Summary: EPA continues to have environmental concerns about PM2.5 emissions, and how they will be minimized.

EIS No. 20090081, ERP No. F-AFS-L65559-OR, BLT Project, Proposed Vegetation Management Activities, Crescent Ranger District, Deschutes National Forest, Deschutes County, OR.

Summary: EPA does not object to the proposed action.

EIS No. 20090089, ERP No. F-AFS-K65338-AZ, Warm Fire Recovery Project, Removal of Fire-Killed Trees Reforestation, Fuel Reduction and Road Reconstruction of Wildland Fire Burn Portion, Coconino County, AZ.

Summary: EPA continues to have environmental concerns about potential impacts to water resources and wildlife habitat from erosion.

EIS No. 20090093, ERP No. F-FHW-H40193-IA, I-29 Improvements in Sioux City, Construction from Burlington Northern Santa Fe Rail Road (BNSF) Bridge over the Missouri River to Existing Hamilton Boulevard Interchange, Woodbury County, IA.

Summary: While EPA does not object to the proposed action, it requested clarification of water and sanitary sewer line relocation and abandonment issues.

EIS No. 20090096, ERP No. FS-COE-G34043-LA, Inner Harbor Navigation Canal (IHNC) Lock Replacement Project, Proposal for Relieving Navigation Traffic Congestion Associated with IHNC Lock, Located between the St. Claude Avenue and North Claibone Avenue Bridge, Orleans, LA.

Summary: EPA does not object to the preferred alternative.

EIS No. 20090103, ERP No. FS-NOA-K91008-00, Amendment 18 to the Fishery Management Plan, Pelagic Fisheries of the Western Pacific Region, Management Modifications for the Hawaii-based Shallow-set Longline Swordfish Fishery, Proposal to Remove Effort Limits, Eliminate the Set Certificate Program and Implement New Sea Turtle Interaction Caps.

Summary: EPA does not object to the proposed project, but suggests that the conservation recommendations outlined in the Biological Opinion be included in the Record of Decision.

Dated: May 12, 2009.
Robert W. Hargrove,
Director, NEPA Compliance Division, Office of Federal Activities.

[FR Doc. E9-11398 Filed 5-14-09; 8:45 am]

BILLING CODE 6560-50-P